DEPARTMENT OF DEFENSE

Office of the Secretary

[No. DoD-2007-OS-0089]

Proposed Collection; Comment Request

AGENCY: Defense Logistics Agency, DoD.

ACTION: Notice.

In compliance with section 3506(c)(2)(A) of the Paperwork Reduction Act of 1995, the Defense Logistics Agency announces a proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 26, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Logistics Agency, ATTN: Ms. Fran Mutschler, DDC J-3/J-4 TOT, 2001 Mission Drive, New Cumberland, PA 17070-5000, or call DDC at (717) 770-5040.

Title and OMB Number: Defense Logistics Agency Survey of Supply Vendors; OMB Control Number 0704-0429.

Needs and Uses: The Defense Logisitics Agency (DLA) is transforming its distribution business practices. It is developing an automated system that will give it visibility on the location and movement of material originating at Government and contractor locations alike, and the ability to use that information for Corporate-wide planning and management. DLA needs to understand corresponding business practices of segments of the contractor community. The survey information will be used by DLA to help determine the extent to which shipments from contractor locations can be integrated into DLA's distribution practices.

Affected Public: Business or other for-profit.

Annual Burden Hours: 200.

Number of Respondents: 200.

Responses Per Respondent: 1.

Average Burden Per Response: 1 hour.

Frequency: On occasion.

SUPPLEMENTARY INFORMATION:

Summary of Information Collection

Respondents are businesses who supply material to the Defense Logistics Agency in direct support of customer requirements or to be placed into stock for future requirements. The survey will seek information concerning each contractor's demographics, order management practices, shipping practices, costs and pricing, and utilization of technology. Participation in the survey will be voluntary.

Dated: August 21, 2007.
Patricia L. Toppings,
Alternate OSD Federal Register Liaison Officer, Department of Defense.

[FR Doc. 07-4182 Filed 8-24-07; 8:45 am]

BILLING CODE 5001-06-M